DEPARTMENT OF ENERGY

Federal Energy Regulatory Commission

Combined Notice of Filings

Take notice that the Commission has received the following Natural Gas Pipeline Rate and Refund Report filings:

Docket Numbers: RP21-228-000.

Applicants: Sierrita Gas Pipeline LLC.

Description: Compliance filing Operational Purchase and Sales Report.

Filed Date: 11/19/20.

Accession Number: 20201119-5013.

Comments Due: 5 p.m. ET 12/1/20.

Docket Numbers: RP21-229-000.

Applicants: Southern Natural Gas Company, L.L.C.

Description: Compliance filing SCRM Filing Nov 2020.

Filed Date: 11/19/20.

Accession Number: 20201119-5017.

Comments Due: 5 p.m. ET 12/1/20.

Docket Numbers: RP21-230-000.

Applicants: Algonquin Gas Transmission, LLC.

Description: § 4(d) Rate Filing: Negotiated Rates—Various Releases eff 12-1-2020 to be effective 12/1/2020.

Filed Date: 11/19/20.

Accession Number: 20201119-5018.

Comments Due: 5 p.m. ET 12/1/20.

Docket Numbers: RP21-231-000.

Applicants: El Paso Natural Gas Company, L.L.C.

Description: § 4(d) Rate Filing: Negotiated Rate Agreement Update (Pioneer Jan-Mar 2021) to be effective 11/19/2020.

Filed Date: 11/19/20.

Accession Number: 20201119-5036.

Comments Due: 5 p.m. ET 12/1/20.

Docket Numbers: RP21-232-000.

Applicants: Cheniere Corpus Christi Pipeline, LP.

Description: Compliance filing CCPL Stage 3 Compliance Filing in Docket No. CP18-513 to be effective 2/1/2021.

Filed Date: 11/19/20.

Accession Number: 20201119-5044.

Comments Due: 5 p.m. ET 12/1/20.

Docket Numbers: RP21-233-000.

Applicants: Algonquin Gas Transmission, LLC.

Description: § 4(d) Rate Filing: Negotiated Rates—Boston Gas Releases eff 12-1-2020 to be effective 12/1/2020.

Filed Date: 11/19/20.

Accession Number: 20201119-5053.

Comments Due: 5 p.m. ET 12/1/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2020.
Nathaniel J. Davis, Sr.,
Deputy Secretary.

[FR Doc. 2020-26306 Filed 11-27-20; 8:45 am]

BILLING CODE 6717-01-P